DEPARTMENT OF COMMERCE

National Oceanic and Atmospheric Administration

50 CFR Part 622

RIN 0648-BN30

Fisheries of the Caribbean, Gulf of Mexico, and South Atlantic; Snapper-Grouper Fishery of the South Atlantic; Amendment 55

AGENCY: National Marine Fisheries Service (NMFS), National Oceanic and Atmospheric Administration (NOAA), Commerce.

ACTION: Announcement of availability of fishery management plan amendment; request for comments.

SUMMARY: The South Atlantic Fishery Management Council (Council) submitted Amendment 55 to the Fishery Management Plan for the Snapper-Grouper Fishery of the South Atlantic (FMP) for review, approval, and implementation by NMFS. If approved by the Secretary of Commerce, Amendment 55 would remove yellowmouth grouper from the other South Atlantic shallow water grouper complex (other SASWG) and establish a new scamp and yellowmouth grouper complex. Amendment 55 would also establish status determination criteria (SDC), a rebuilding plan, catch levels, sector allocations, sector management measures, and accountability measures (AMs) for the new complex; and establish catch levels for the revised other SASWG complex. The purpose of Amendment 55 is to rebuild the scamp and yellowmouth grouper stock, and achieve optimum yield (OY) while minimizing, to the extent practicable, adverse social and economic effects.

DATES: Written comments on Amendment 55 must be received on or before May 16, 2025.

ADDRESSES: You may submit comments on Amendment 55, identified by “NOAA-NMFS-2024-0132,” by either of the following methods:

• Electronic Submission: Submit all electronic public comments via the Federal e-Rulemaking Portal. Go to www.regulations.gov and enter “NOAA-NMFS-2024-0132” in the Search box. Click the “Comment” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 55, which includes a fishery impact statement and a regulatory impact review, may be obtained from the Southeast Regional Office website at https://www.fisheries.noaa.gov/action/amendment-55-establish-new-scamp-and-yellowmouth-grouper-complex-rebuilding-plan-catch.

The unique identification number for the environmental review for Amendment 55 is: EAXX-006-48-1SE-1730464344.

FOR FURTHER INFORMATION CONTACT: Nikhil Mehta, telephone: 727-824-5305, or email: nikhil.mehta@noaa.gov.

SUPPLEMENTARY INFORMATION: The Magnuson-Stevens Fishery Conservation and Management Act (Magnuson-Stevens Act) requires each regional fishery management council to submit any fishery management plan or amendment to such a plan to the Secretary of Commerce for review and approval, partial approval, or disapproval. The Magnuson-Stevens Act also requires that NMFS, upon receiving a fishery management plan or amendment to such a plan, publish an announcement in the Federal Register notifying the public that the plan or amendment is available for review and comment.

The Council prepared the FMP that is being revised by Amendment 55. If approved, Amendment 55 would be implemented by NMFS through regulations at 50 CFR part 622 under the authority of the Magnuson-Stevens Act.

Background

NMFS and the Council manage the South Atlantic snapper-grouper fishery, which includes scamp, yellowmouth grouper, and the species in the other SASWG complex, under the FMP, in Federal waters from North Carolina south to the Florida Keys in the South Atlantic. The Magnuson-Stevens Act requires that NMFS and regional fishery management councils prevent overfishing and achieve, on a continuing basis, the OY from federally managed fish stocks. These mandates are intended to ensure that fishery resources are managed for the greatest overall benefit to the Nation, particularly with respect to providing food production and recreational opportunities, and protecting marine ecosystems. To further this goal, the Magnuson-Stevens Act requires fishery managers to minimize bycatch and bycatch mortality to the extent practicable.

Unless otherwise noted, all weights in this document are described in round weight.

The South Atlantic stock of scamp was assessed for the first time through the Southeast Data, Assessment, and Review (SEDAR) 68 Research Track (RT) assessment in September 2021 (SEDAR 68 RT [2021]). In 2020, the first stage of the SEDAR 68 data process was a Stock Identification (ID) Workshop (SEDAR 68 Stock ID Workshop [2020]), which concluded that scamp are very difficult to distinguish from yellowmouth grouper and thus, much of the assessment data likely represents both species in unknown proportions. The SEDAR 68 Stock ID Workshop (2020) recommended that the stock assessment be conducted on both scamp and yellowmouth grouper jointly, with the two species treated as a single complex because of the known species identification issues. This recommendation resulted in the SEDAR 68 Operational Assessment [OA], which was completed in 2022 (SEDAR 68 OA [2022]). The stock status for scamp and yellowmouth grouper was unknown prior to completion of the two assessments. The Council's Scientific and Statistical Committee (SSC) reviewed the SEDAR 68 OA (2022) at their April 2023 meeting. The assessment included data through 2021 and incorporated the revised landings estimates for recreational catch using the Marine Recreational Information Program (MRIP) Fishing Effort Survey (FES). The results of the SEDAR 68 OA assessment indicated that the scamp and yellowmouth grouper stock is overfished but not undergoing overfishing. The Council's SSC determined that the assessment was conducted using the best scientific information available and was adequate for determining stock status and supporting total fishing level recommendations. NMFS notified the Council of the overfished status of the scamp and yellowmouth grouper stocks via letter dated September 21, 2023.

Following a notification from NMFS to a Council that a stock is overfished, the Magnuson-Stevens Act requires the Council to develop an FMP amendment with actions that rebuild the affected stock. Therefore, the Council developed Amendment 55 to respond to the results of SEDAR 68 OA (2022).

Amendment 25 to the FMP (Comprehensive Annual Catch Limit Amendment) (77 FR 15916, March 16, 2012) established single species and species complex annual catch limits (ACLs) and AMs. Single species ACLs were established for assessed and targeted species, species where ACL=0, and species that could not be placed in a complex based on the criteria below. Scamp was one of the species that met the criteria for a single species ACL. Complex ACLs for groups of species were established for other snapper-grouper species using associations based on one or more of the following: life history, catch statistics from commercial logbook and observer data, recreational headboat logbook and private/charter survey, and fishery-independent data. Based on the criteria for complex ACLs in Amendment 25, yellowmouth grouper was included in the other SASWG complex along with red hind, rock hind, yellowfin grouper, coney, and graysby. Regulatory Amendment 13 to the FMP updated the commercial and recreational ACLs for select unassessed species including scamp and yellowmouth grouper (78 FR 36113, June 17, 2013). Amendment 29 to the FMP established the current commercial and recreational ACLs for scamp and yellowmouth grouper (80 FR 30947, June 1, 2015).

Actions Contained in Amendment 55

Amendment 55 would remove yellowmouth grouper from the other SASWG complex and establish a new scamp and yellowmouth grouper complex. For the new complex, Amendment 55 would establish SDC, a rebuilding plan, the total ACL, sector ACLs, recreational bag limits, commercial trip limits, and AMs. Amendment 55 would also revise the total ACL and sector ACLs for the species remaining within the other SASWG complex.

Reorganization of Complexes

Yellowmouth grouper is currently part of the other SASWG complex containing rock hind, red hind, coney, graysby, yellowmouth grouper, and yellowfin grouper. Amendment 55 would remove yellowmouth grouper from the other SASWG complex and establish a new complex containing both scamp and yellowmouth grouper. Rock hind, red hind, coney, graysby, and yellowfin grouper would remain in the reorganized other SASWG complex.

SDC

Scamp and Yellowmouth Grouper Complex Maximum Sustainable Yield

There is no maximum sustainable yield (MSY) value for the scamp and yellowmouth grouper complex. Amendment 55 would establish the MSY proxy as the yield when fishing at the fishing mortality rate (F) that produces a spawning potential ratio (SPR) of 40 percent for the scamp and yellowmouth grouper complex. MSY is defined as the largest long-term average catch that can be taken from a stock under current conditions. Currently, scamp (individually) and yellowmouth grouper (as part of the other SASWG complex) have MSY proxies of F30%SPR; however, SEDAR 68 OA (2022) recommended an MSY proxy for the scamp and yellowmouth grouper stock complex of F40%SPR. As described in Amendment 55, the MSY proxy recommendation is to use F30%SPR for very resilient stocks and use F40%SPR for species with life-history characteristics consistent with scamp and yellowmouth grouper. In March 2023 the Council received a letter from NMFS Southeast Fisheries Science Center (SEFSC) stating that the best scientific information available recommends that F40%SPR is more likely than F30%SPR to achieve a level of biomass that would produce the MSY for the scamp and yellowmouth grouper stock complex. Therefore, the Council decided to establish the MSY proxy of F40%SPR for the scamp and yellowmouth grouper complex.

Scamp and Yellowmouth Grouper Complex Maximum Fishing Mortality Threshold

There is no maximum fishing mortality threshold (MFMT) for the scamp and yellowmouth grouper complex. Amendment 55 would establish MFMT equal to F40%SPR for the scamp and yellowmouth grouper complex, with a currently estimated value of 0.28. MFMT is defined as the level of fishing mortality above which overfishing is occurring. Currently, scamp (individually) and yellowmouth grouper (as part of the other SASWG complex) have a MFMT equal to the MSY proxy of F30%SPR; however, SEDAR 68 OA (2022) recommended a MFMT equal to the MSY proxy of the yield at F40%SPR for the scamp and yellowmouth grouper stock complex. The Council determined that the proposed MFMT is based on the best scientific information available and would be consistent with the proposed MSY.

Scamp and Yellowmouth Grouper Complex Minimum Stock Size Threshold

There is no minimum stock size threshold (MSST) for the scamp and yellowmouth grouper complex. Amendment 55 would establish MSST equal to 75 percent of the spawning stock biomass (SSB) at F40%SPR, with a currently estimated value of 801.60 metric tons. MSST is defined as the SSB level below which a stock is declared overfished. Currently, scamp (individually) and yellowmouth grouper (as part of the other SASWG complex) have a MSST equal to the SSB at MSY (SSBMSY) times either one minus the natural mortality (M) or 0.5, whichever is greater. However, SEDAR 68 OA (2022) defined the MSST as 75 percent of SSB at F40%SPR for the scamp and yellowmouth grouper stock complex. The Council determined that the proposed MSST for the scamp and yellowmouth grouper stock complex would be based on the best scientific information available.

Scamp and Yellowmouth Grouper Complex OY

There is no OY for the scamp and yellowmouth grouper complex. Amendment 55 would establish an OY of 95 percent MSY for the scamp and yellowmouth grouper complex. In Amendment 55 the OY would be 353,670 pounds (lb) (160,422 kilograms (kg)) and the MSY would be 372,280 lb (168,863 kg). OY is the long-term average yield desired from a stock or fishery as reduced from MSY for the fishery based on relevant economic, social, and ecological factors. The Council acknowledged the uncertainty in landings estimates for scamp and yellowmouth grouper but noted that scientific uncertainty had been appropriately accounted for and the 5 percent buffer between OY and the MSY would account for the uncertainty in social, economic, and biological factors.

Rebuilding Plan for the South Atlantic Scamp and Yellowmouth Grouper Stock Complex

Amendment 55 would establish a 10-year rebuilding plan for the complex, which is the longest allowable rebuilding scenario (Tmax) allowed by the Magnuson-Stevens Act (16 U.S.C. 1854(e)(4)(A)). In addition, the Magnuson-Stevens Act National Standard 1 Guidelines state that if the stock is projected to rebuild in 10 years or less, then Tmax is 10 years (50 CFR 600.310(j)(3)(i)(B)(1)). The Council's preferred choice of the 10-year timeframe for rebuilding in Amendment 55 beginning in 2025, is intended to reduce the severity of the proposed management measures and thus result in fewer short-term negative social and economic impacts on fishing communities.

Scamp and Yellowmouth Grouper Complex Total ACL

There is no acceptable biological catch (ABC) or total ACL for the scamp and yellowmouth grouper complex. As described in Amendment 55, the ABC would be equal to the total ACL for the complex and an ABC would be established of 67,450 lb (30,595 kg), for the 2025 fishing year; 72,200 lb (32,749 kg), for the 2026 fishing year; 75,050 lb (34,042 kg), for the 2027 fishing year; 77,900 lb (35,335 kg), for the 2028 fishing year; and 79,800 lb (36,197 kg), for the 2029 and subsequent fishing years. The ABC values are based on the Council's SSC recommendations based on the latest commercial landings data and inclusive of recreational data from the MRIP-FES and are considered to be consistent with the best scientific information available. The Magnuson-Stevens Act National Standard 1 guidelines specify that Councils can choose to account for management uncertainty by setting the ACL less than the ABC, but also states that ACLs may be set very close to or equal to the ABC. In Amendment 55, the Council decided to set the total ACL equal to the ABC for the new scamp and yellowmouth grouper complex. This level of removals is below the MSY and the overfishing limit, and provides greater assurance that overfishing is prevented, the long-term average biomass is near or above the biomass that would produce the MSY (BMSY), and the overfished stock complex of scamp and yellowmouth grouper is rebuilt within the Council's chosen rebuilding timeframe.

Scamp and Yellowmouth Grouper Complex Sector ACLs

Amendment 55 would revise the commercial and recreational allocations for scamp and yellowmouth grouper. The current sector ACLs for scamp are based on the commercial and recreational allocations of the total ACL at 69.36 percent and 30.64 percent, respectively, and 1.35 percent and 98.65 percent, respectively, for yellowmouth grouper, that were established through Amendment 25 to the FMP (77 FR 15916, March 16, 2012). The Council used the distribution of landings to determine allocations by sector using a formula of (0.5 * catch history) + (0.5 * current trend) whereby, catch history is equal to the average landings of 1986 through 2008 and current trend is equal to the average landings of 2006 through 2008 to determine the existing allocations.

In Amendment 55, the Council would set the commercial and recreational sector allocations for the scamp and yellowmouth grouper complex based on a unique allocation formula (“split reduction method”) that also accounts for the revisions to the calibrated recreational landings estimates from the MRIP-FES. This method would implement the reductions in total harvest needed for the complex and establish the total ACL and proportionally allocate the total ACL to each sector, based upon the distribution of landings under more recent time periods that the Council determined better reflect the way the fishery is currently operating. The Council chose the 5-year total average of commercial and recreational (FES) landings from 2018 through 2022, and split the reduction needed from the current total ACL equitably among the sectors to achieve the reduction in harvest needed to constrain the harvest to the total ACL. In each subsequent year throughout the rebuilding plan, as the total ACL increases, the ACL poundage increase is allocated equally between both sectors and added to each sector's respective ACL from the previous year. The proposed commercial and recreational allocation percentages and sector ACLs would change each year from 2025 through 2029 and then remain set at the 2029 level. For the commercial sector, allocation percentages would range from 64.90 to 62.59 percent and for the recreational sector the allocation percentages would range from 35.10 to 37.41 percent through 2029.

The current commercial and recreational ACLs for scamp are 219,375 lb (99,507 kg), and 116,369 lb (52,784 kg), respectively. Yellowmouth grouper is currently part of the other SASWG complex and the commercial and recreational ACLs for the other SASWG complex are 55,542 lb (25,193 kg), and 48,648 lb (22,066 kg), respectively.

In Amendment 55, the Council determined that their preferred sector allocation method more fairly deals with the initial reduction in ACLs for scamp and yellowmouth grouper that would result from the updated catch levels, and reduces the proportion of each sector's allowable catch based on recent landings so that the effect on each sector is more equitable. Similarly, the Council noted that the new allocations would achieve a balance between the needs of both sectors and also increase each sector's allowable catch proportionately on a poundage basis throughout the rebuilding plan. The Council determined that the new sector allocation method distributes both fishing restrictions and recovery benefits for scamp and yellowmouth grouper fairly and equitably among both sectors in the new complex. In addition, this allocation method is also reasonably calculated to promote conservation, since it achieves OY while sector catch limits remain within the boundaries of a total ACL that is based upon an ABC recommendation that would end overfishing and rebuild the stock complex, incorporating the best scientific information available.

When applying the commercial sector allocation percentage as discussed, the proposed commercial ACLs for the scamp and yellowmouth grouper complex would be 43,772 lb (19,855 kg), for the 2025 fishing year; 46,147 lb (20,932 kg), for the 2026 fishing year; 47,572 lb (21,578 kg), for the 2027 fishing year; 48,997 lb (22,225 kg), for the 2028 fishing year; and 49,947 lb (22,656 kg), for the 2029 and subsequent fishing years.

When applying the recreational sector allocation percentage as discussed, the proposed recreational ACLs for the scamp and yellowmouth grouper complex would be 23,678 lb (10,740 kg), for the 2025 fishing year; 26,053 lb (11,817 kg), for the 2026 fishing year; 27,478 lb (12,464 kg), for the 2027 fishing year; 28,903 lb (13,110 kg), for the 2028 fishing year; and 29,853 lb (13,541 kg), for the 2029 and subsequent fishing years.

Recreational Bag Limits for Scamp and Yellowmouth Grouper

Currently, the recreational bag limit is three scamp or three yellowmouth grouper per person per day within the overall three fish grouper and tilefish combined aggregate bag limit. Amendment 55 would establish an aggregate complex bag limit of one fish (either scamp or yellowmouth grouper combined) per person per day within the overall three fish grouper and tilefish combined aggregate bag limit.

Given the reduction in harvest needed to increase the likelihood of rebuilding the scamp and yellowmouth grouper stock, the Council decided to establish the proposed aggregate bag limit for these species that would continue to allow recreational retention while also helping to constrain recreational harvest to the reduced recreational ACL.

Scamp and Yellowmouth Grouper Complex Commercial Trip Limits

There is no commercial trip limit for either scamp and yellowmouth grouper as a species or as an aggregate of species. Amendment 55 would establish an aggregate commercial trip limit for scamp and yellowmouth grouper of 300 lb (136 kg), gutted weight.

Under the proposed trip limit, the Council determined that there could be an increased likelihood of the scamp and yellowmouth grouper portion of the snapper-grouper fishery remaining open and available to fisherman and consumers for as long as possible while reducing harvest to ensure the rebuilding plan is achieved.

Scamp and Yellowmouth Grouper Complex Commercial AMs

There are not currently any commercial AMs for the new scamp and yellowmouth grouper complex. For the new complex, Amendment 55 would establish an in-season commercial closure for the remainder of the fishing year, if commercial landings for scamp and yellowmouth grouper, combined, reach or are projected to reach the commercial ACL of the complex. Amendment 55 would also establish post-season AMs if commercial landings for scamp and yellowmouth grouper, combined, exceed the complex commercial ACL, regardless of stock status or whether the total ACL was exceeded, the commercial ACL of the complex for the following fishing year would be reduced by the amount of the commercial ACL overage in the prior fishing year.

To achieve rebuilding, the Council decided it was important that the commercial AMs be as effective as possible in preventing commercial landings from exceeding the commercial ACL. An in-season closure and a post-season overage adjustment (payback) of the commercial ACL would ensure that commercial landings remain at or below the proposed commercial ACL.

Scamp and Yellowmouth Grouper Complex Recreational AMs

There are not currently any recreational AMs for the new scamp and yellowmouth grouper complex. Amendment 55 would establish a post-season recreational AM. If recreational landings for scamp and yellowmouth grouper, combined, exceed the recreational ACL of the complex, then the length of the following year's recreational fishing season for the complex would be reduced by the amount necessary to prevent the recreational ACL from being exceeded in the following year, regardless of stock status.

The Council determined that recreational landings estimates are not timely enough for in-season monitoring of the complex. The proposed post-season AM is consistent with what the Council has established for similar snapper-grouper species, in which a season reduction is reliant on a single trigger: that recreational landings exceed the recreational ACL. The Council determined that this post-season AM, when triggered, would be more effective in constraining recreational landings from exceeding the recreational ACL during the following year. This post-season AM is also not reliant on the total ACL being exceeded or an overfished stock status and that it would be the most appropriate choice for the recreational sector and therefore have the greatest chance of contributing to rebuilding of the scamp and yellowmouth grouper stock complex.

Other SASWG Complex Total ACL and Sector ACLs

The current ABC for the other SASWG complex that contains rock hind, red hind, coney, graysby, yellowmouth grouper, and yellowfin grouper is 104,190 lb (47,260 kg), and was implemented by Amendment 29 to the FMP (80 FR 30947, June 1, 2015). The total ACL was set equal to the ABC and included recreational estimates from MRIP's Coastal Household Telephone Survey (CHTS). The current commercial ACL is 55,542 lb (25,193 kg) and the recreational ACL is 48,648 lb (22,066 kg). Amendment 55 would retain the same ABC for the reorganized other SASWG complex of 104,190 lb (47,260 kg), while not including yellowmouth grouper as part of the value. The proposed total ACL for the reorganized other SASWG complex would be 100,151 lb (45,428 kg), and would retain recreational estimates from MRIP-CHTS in the estimation of the total ACL. The commercial ACL would be 53,380 lb (24,213 kg), and the recreational ACL would be 46,771 lb (21,215 kg). The sector allocations for the other SAWSG complex would not change in Amendment 55 and would remain at 1.35 percent commercial and 98.65 percent recreational.

The species within the other SASWG complex are considered data limited and none of the species in the complex have stock assessments. Following the Council's SSC Unassessed Stocks Workgroup meeting in 2020, an ABC was recommended, however, this catch level was determined by the Council's SSC by using the third highest landings using distinct years depending on the species and Only Reliable Catch methodologies, which are both no longer considered best scientific information available. During the Council SSC's April 2023 meeting, the SSC recommended that the other SASWG ACL be modified while still retaining the MRIP-CHTS recreational estimates included in the estimation of the total ACL. The Council's SSC also recommended that the other SASWG ABC and ACL be revised in the Council's upcoming Unassessed Species Amendment using MRIP-FES recreational estimates. As the Council's Unassessed Species Amendment is not expected to be completed until 2026 or later, an action to update the other SASWG ABC and ACL using MRIP-FES recreational data was not included in Amendment 55. The MRIP-FES based catch estimates for the other SASWG species have not yet been through a sufficient scientific review process, which the SSC determined was necessary prior to developing new ABCs and ACLs based on the FES data. Amendment 55 would also not modify the current commercial or recreational AMs for the other SASWG complex (50 CFR 622.193(j)).

Proposed Rule for Amendment 55

A proposed rule to implement Amendment 55 has been drafted. In accordance with the Magnuson-Stevens Act, NMFS is evaluating the proposed rule for Amendment 55 to determine whether it is consistent with the FMP, the Magnuson-Stevens Act, and other applicable law. If that determination is affirmative, NMFS will publish the proposed rule in the Federal Register for public review and comment.

Consideration of Public Comments

The Council has submitted Amendment 55 for Secretarial review, approval, and implementation. Comments on Amendment 55 must be received by May 16, 2025. Comments received during the respective comment periods, whether specifically directed to Amendment 55 or the proposed rule, will be considered by NMFS in the decision to approve, partially approve, or disapprove, Amendment 55. Comments received after the comment periods will not be considered by NMFS in this decision. All comments received by NMFS on the amendment or the proposed rule during their respective comment periods will be addressed in the final rule.

Authority: 16 U.S.C. 1801 et seq.

Dated: March 10, 2025.
Karen H. Abrams,
Acting Director, Office of Sustainable Fisheries, National Marine Fisheries Service.

[FR Doc. 2025-04025 Filed 3-14-25; 8:45 am]

BILLING CODE 3510-22-P